DEPARTMENT OF VETERANS AFFAIRS

Advisory Committee on Prosthetics and Special Disabilities Programs; Notice of Meeting

The Department of Veterans Affairs (VA) gives notice under Public Law 92-463 (Federal Advisory Committee Act) that a meeting of the Advisory Committee on Prosthetics and Special Disabilities Programs (the “Committee”) will be held May 4-5, 2010, in Room 930, at VA Central Office, 810 Vermont Avenue, NW., Washington, DC. The sessions will convene at 8:30 a.m. on both days and will adjourn at 4:30 p.m. on May 4 and noon on May 5. The meeting is open to the public.

The purpose of the Committee is to advise the Secretary of Veterans Affairs on VA's prosthetic programs designed to provide state-of-the-art prosthetics and the associated rehabilitation research, development, and evaluation of such technology. The Committee also provides advice to the Secretary on special disability programs which are defined as any program administered by the Secretary to serve Veterans with spinal cord injury, blindness or visual impairment, loss of extremities or loss of function, deafness or hearing impairment, and other serious incapacities in terms of daily life functions.

On May 4, the Committee will have its annual ethics briefing by the Office of General Counsel and be briefed by the Director, Audiology and Speech Pathology Service, Chief Consultant for Spinal Cord Injury and Disorders, Chief Consultant for Care Coordination, Director of Blind Rehabilitation Service, and the Chief Consultant for Mental Health Services. On May 5, the Committee will be briefed by the Director of VA's Podiatric Services and the Office of Construction and Facilities Management.

No time will be allocated for receiving oral presentations from the public. However, members of the public may direct questions or submit written statements for review by the Committee in advance of the meeting to Mr. Larry N. Long, Designated Federal Officer, Veterans Health Administration, Patient Care Services, Rehabilitation Services (117D), Department of Veterans Affairs, 810 Vermont Avenue, NW., Washington, DC 20420 or by e-mail at lonlar@va.gov. Any member of the public wishing to attend the meeting should contact Mr. Long at (202) 461-7354.

Dated: April 29, 2010.
By Direction of the Secretary.
Vivian Drake,
Acting Committee Management Officer.

[FR Doc. 2010-10441 Filed 5-4-10; 8:45 am]

BILLING CODE 8320-01-P